DEPARTMENT OF COMMERCE

National Oceanic and Atmospheric Administration

50 CFR Part 648

[Docket No. 250813-0136]

RIN 0648-BN65

Fisheries of the Northeastern United States; Advanced Notice of Proposed Rulemaking To Establish a Control Date for the Summer Flounder, Scup, Black Sea Bass, and Bluefish Recreational For-Hire Fisheries

AGENCY: National Marine Fisheries Service (NMFS), National Oceanic and Atmospheric Administration (NOAA), Commerce.

ACTION: Advance notice of proposed rulemaking; request for comments.

SUMMARY: This advance notice of proposed rulemaking seeks comment on the benefits or disadvantages of the Mid-Atlantic Fishery Management Council (Council) potentially recommending future restrictions for the federally permitted recreational for-hire fisheries for summer flounder, scup, black sea bass, and bluefish. The Council requested NMFS establish a control date while managers consider if, and how, participation may be affected through the ongoing Recreational Sector Separation and Data Collection Amendment. NMFS is informing the public of the new control date to promote awareness of the potential changes to eligibility criteria for future access and to discourage speculative entry into the Federal for-hire fisheries.

DATES: Comments must be received by September 24, 2025.

ADDRESSES: A plain language summary of this proposed rule is available at: https://www.regulations.gov/docket/NOAA-NMFS-2025-0029. You may submit comments on this document, identified by NOAA-NMFS-2025-0029, by the following method:

• Electronic Submission: Submit all electronic public comments via the Federal e-Rulemaking Portal. Visit https://www.regulations.gov and type NOAA-NMFS-2025-0029 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Savannah Lewis, Fishery Management Specialist, (978) 281-9348, or Savannah.Lewis@noaa.gov.

SUPPLEMENTARY INFORMATION: This advance notice of proposed rulemaking establishes February 11, 2025, as the new control date for potential use in determining historical or traditional participation in the Federal for-hire summer flounder, scup, black sea bass, and bluefish fisheries. NMFS seeks comment on the benefits or disadvantages of the Council potentially recommending future restrictions, resulting in subsequent rulemakings from NMFS, which may utilize this date. The summer flounder, scup, black sea bass, and bluefish fisheries are jointly managed by the Council and the Atlantic States Marine Fisheries Commission (Commission). Under the authority of the Magnuson-Stevens Fishery Conservation and Management Act, NMFS approved the Fishery Management Plans (FMPs) and implements them through regulations at 50 CFR part 648 subparts G-J.

As part of their ongoing Recreational Reform Initiative, the Council and Commission are considering potential revisions to the federally permitted for-hire fisheries for summer flounder, scup, black sea bass, and bluefish through the Recreational Sector Separation Amendment. At its February 2025 meeting, the Council voted to request that NMFS establish a control date of February 11, 2025, for federally permitted recreational for-hire participants in these for-hire fisheries. There is currently no control date for these fisheries, and Federal permits to participate in these fisheries are currently available on an open access basis.

The purpose of a control date is to enable the Council to inform current and potential participants that it is considering whether to recommend restrictions that limit participation in a fishery. The Council is considering recommending a future action that may use the control date as a reference point when determining fishery access criteria as management measures are developed, and may use this control date for establishing qualification criteria. Consideration of a control date does not commit the Council to develop a recommendation for any particular management regime or criteria for participation in the fishery. If the Council decides to recommend an amendment to the FMPs to restrict participation in the Federal for-hire summer flounder, scup, black sea bass, and bluefish fisheries in relation to this control date, an analysis of the specific administrative, biological, economic, and social effects will be prepared at that time. If NMFS were to implement future actions recommended by the Council, NMFS would need to publish a proposed rule containing the amendments to the respective FMPs in the Federal Register with a public comment period and issue a final rule.

NMFS is therefore informing current and potential fishery participants in the Federal for-hire recreational fisheries for summer flounder, scup, black sea bass, and bluefish that began participating after February 11, 2025 that they may not be ensured participation under future management of these fisheries should NMFS codify further restrictions as recommended by the Council.

The Federal for-hire permits for these for-hire components are currently open access and available to be applied for by anyone with a valid vessel registration. Control dates exist for these four fisheries for only the commercial sectors; there are no prior control dates for these four for-hire fisheries.

Publication of the control date does not have any immediate impact on fishery participants or fishing privileges. The Council may choose to make recommendations using additional criteria or different qualification criteria that do not incorporate the new control date. Control dates are intended to discourage speculative entry or fishing activity while managers consider if, and how, participation in the fishery may be affected. The Council may also choose to recommend NMFS take no further action to control entry or access to the for-hire fisheries. This action proposes no changes to the Federal recreational management measures for any of these species.

Dated: August 13, 2025.
Samuel D. Rauch III,
Deputy Assistant Administrator for Regulatory Programs, National Marine Fisheries Service.

[FR Doc. 2025-16240 Filed 8-22-25; 8:45 am]

BILLING CODE 3510-22-P